DEPARTMENT OF TRANSPORTATION

Federal Aviation Administration

14 CFR Part 71

[Airspace Docket No. 98-AAL-13]

RIN 2120-AA66

Establishment of Jet Routes; AK

AGENCY: Federal Aviation Administration (FAA), DOT.

ACTION: Final rule.

SUMMARY: This action establishes nine Jet Routes located in Alaska (AK) to improve the management of air traffic operations and to enhance safety.

EFFECTIVE DATE: 0901 UTC, June 15, 2000.

FOR FURTHER INFORMATION CONTACT: Joseph C. White, Airspace and Rules Division, ATA-400, Office of Air Traffic Airspace Management, Federal Aviation Administration, 800 Independence Avenue, SW., Washington, DC 20591; telephone: (202) 267-8783.

SUPPLEMENTARY INFORMATION:

Background

On January 14, 1999, the FAA proposed to amend 14 CFR part 71 (part 71) to establish 11 Jet Routes, J-600, J-601, J-602, J-603, J-604, J-605, J-606, J-609, J-617, J-619, and J-711 in Alaska (64 FR 2452). Interested parties were invited to participate in this rulemaking by submitting written comments on the proposal to the FAA. No comments were received.

Following the publication of the notice, flight inspections of the 11 proposed Jet Routes were performed. Five of the proposed Jet Routes (J-603, J-604, J-605, J-617, and J-619) met navigational requirements without any changes. Four Jet Routes (J-600, J-601, J-606, and J-711) required legal description changes to meet navigational requirements. Two Jet Routes (J-602 and J-609) have been deleted from the proposal as they did not pass flight check. Except for editorial changes, and the correction of the descriptions for J-600, J-601, J-606, and J-711, and the deletion of J-602 and J-609, this amendment is the same as that proposed in the notice.

Jet Routes are published in paragraph 2004 of FAA Order 7400.9G, dated September 1, 1999, and effective September 16, 1999, which is incorporated by reference in 14 CFR 71.1. The Jet Routes listed in this document will be published subsequently in the order.

The Rule

This action amends part 71 by establishing nine Jet Routes, J-600, J-601, J-603, J-604, J-605, J-606, J-617, J-619, and J-711, in Alaska.

Prior to this action, there were a number of uncharted nonregulatory routes that used the same routings as the Jet Routes in this rule. Those nonregulatory routings were used daily by air carrier and general aviation aircraft. The FAA is taking this action to establish these nine Jet Routes for the following reasons: (1) The conversion of these uncharted nonregulatory routes to Jet Routes will add to the instrument flight rules (IFR) airway and route infrastructure in Alaska; (2) Pilots will be provided with minimum en route altitudes and minimum obstruction clearance altitudes information; (3) This amendment will establish controlled airspace, thus eliminating some of the commercial IFR operations in uncontrolled airspace; and (4) The addition of these routes will improve the management of air traffic operations and thereby enhance safety. Additionally, this action corrects the descriptions of J-600, J-601, J-606, and J-711 to meet flight inspection requirements.

The FAA has determined that this regulation only involves an established body of technical regulations for which frequent and routine amendments are necessary to keep operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Jet Routes are published in paragraph 2004 of FAA Order 7400.9G, dated September 1, 1999, and effective September 16, 1999, which is incorporated by reference in 14 CFR 71.1. The Jet Routes listed in this document will be published subsequently in the order.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9G, Airspace Designations and Reporting Points, dated September 1, 1999, and effective September 16, 1999, is amended as follows:

Paragraph 2004-Jet Routes

* * * * *

J-600 [New]

From Mt. Moffett, AK, NDB; to Elfee, AK, NDB.

J-601 [New]

From Port Heiden NDB; Cold Bay, AK; INT Dutch Harbor, AK, NDB, 006° and St. Paul Island, AK, NDB, 111° radials; to St. Paul Island, NDB.

* * * * *

J-603 [New]

From Elfee, AK, NDB; to Dillingham, AK.

J-604 [New]

From Borland, AK, NDB; to Woody Island, AK, NDB.

J-605 [New]

From Biorka Island, AK; to Middleton Island, AK.

J-606 [New]

From St. Paul Island, AK, NDB; to INT Cape Newenham, AK, NDB, 131° and Saldo, AK, NDB, AK, 262° radials; Saldo, AK, NDB.

* * * * *

J-617 [New]

From Homer, AK; to Johnstone Point, AK.

* * * * *

J-619 [New]

From Cape Newenham, AK, NDB; to St. Paul Island, AK, NDB.

* * * * *

J-711 [New]

From Sitka, AK, NDB; INT Hinchinbrook, AK, NDB, 117° and Yakutat, AK, 213° radials; to Hinchinbrook, AK, NDB.

* * * * *

Issued in Washington, DC, on March 27, 2000.
Reginald C. Matthews,
Manager, Airspace and Rules Division.

[FR Doc. 00-8229 Filed 4-3-00; 8:45 am]

BILLING CODE 4910-13-U